DEPARTMENT OF THE TREASURY

Office of Foreign Assets Control

Additional Designations of Terrorism-Related Blocked Persons

AGENCIES: Office of Foreign Assets Control, Treasury.

ACTION: Notice.

SUMMARY: The Treasury Department's Office of Foreign Assets Control is publishing the name of one additional person whose property and interests in property has been blocked pursuant to Executive Order 13224 of September 23, 2001, pertaining to persons who commit, threaten to commit, or support terrorism.

DATES: The designation by the Office of Foreign Assets Control of one additional person identified in this notice whose property and interests in property have been blocked pursuant to Executive Order 13224 is effective on October 17, 2002.

FOR FURTHER INFORMATION CONTACT: Office of Foreign Assets Control, Department of the Treasury, Washington, DC 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat ® readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

On September 23, 2001, President Bush issued Executive Order 13224 (the “Order”) imposing economic sanctions on persons who commit, threaten to commit, or support certain acts of terrorism. In an annex to the Order, President Bush identified 12 individuals and 15 entities whose assets are blocked pursuant to the Order (66 FR 49079, September 25, 2001). Additional persons have been blocked pursuant to authorities set forth in the Order since that date and notices of these additional blockings have been published in the Federal Register.

Additional Designation. On October 17, 2002, the Office of Foreign Assets Control, acting pursuant to authorities set forth in the Order, designated one additional person whose property and interests in property are blocked. The name of this additional person is set forth in the list below. Persons, and their known aliases, will be added to appendix A to 31 CFR chapter V, through a separate Federal Register notice, as “specially designated global terrorists” identified by the initials “[SDGT]”. Appendix A lists the names of persons with respect to whom transactions are subject to the various economic sanctions programs administered by the Office of Foreign Assets Control.

The designation by the Office of Foreign Assets Control pursuant to Executive Order 13224 of this additional person listed below is effective on October 17, 2002. All property and interests in property of any designated person, including but not limited to all accounts, that are or come within the United States or that are or come within the possession or control of United States persons, including their overseas branches, are blocked and may not be transferred, paid, exported, withdrawn, or otherwise dealt in, and all transactions or dealings by U.S. persons or within the United States in property or interests in property of any designated person are prohibited, unless licensed by the Office of Foreign Assets Control or exempted by statute.

The additional designation follows:

Global Relief Foundation, Inc., (a.k.a. Fondation Secours Mondial, A.S.B.L; a.k.a. Fondation Secours Mondial—Belgique A.S.B.L.; a.k.a. Fondation Secours Mondial VZW; a.k.a. FSM; a.k.a. Stichting Wereldhulp—Belgie, V.Z.W.; a.k.a. Fondation Secours Mondial—Kosova; a.k.a. Fondation Secours Mondial “World Relief”; a.k.a. Secours Mondial de France), Rruga e Kavajes, Building No. 3, Apartment No. 61, P.O. Box 2892, Tirana, Albania; Vaatjesstraat, 29, 2580 Putte, Belgium; Rue des Bataves 69, 1040 Etterbeek, Brussels, Belgium; P.O. Box 6, 1040 Etterbeek 2, Brussels, Belgium; Mula Mustafe Baseskije Street No. 72, Sarajevo, Bosnia; Put Mladih Muslimana Street 30/A, Sarajevo, Bosnia; 49 Rue du Lazaret, 67100 Strasbourg, France; Rr. Skenderbeu 76, Lagjja Sefa, Gjakova, Kosovo; Ylli Morina Road, Djakovica, Kosovo; House 267 Street No. 54, Sector F—11/4, Islamabad, Pakistan; Saray Cad. No. 37 B Blok, Yesilyurt Apt. 2/4, Sirinevler, Turkey; P.O. Box 1406, Bridgeview, Illinois 60455, U.S.A.; Afghanistan; Azerbaijan; Bangladesh; Chechnya, Russia; China; Eritrea; Ethiopia; Georgia; India; Ingushetia, Russia; Iraq; Jordan; Kashmir; Lebanon; Sierra Leone; Somalia; Syria; West Bank and Gaza; V.A.T. Number: BE 454,419,759; Federal Employer Identification Number: 36-3804626. (entity).

Dated: December, 2, 2002.
R. Richard Newcomb,
Director, Office of Foreign Assets Control.
Kenneth Lawson,
Assistant Secretary (Enforcement), Department of the Treasury.

[FR Doc. 03-13 Filed 1-2-03; 8:45 am]

BILLING CODE 4810-25-P